DEPARTMENT OF LABOR

Office of Disability Employment Policy

Proposed Information Collection Request

ACTION: Notice.

SUMMARY: The U.S. Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Disability Employment Policy (ODEP) of the Department of Labor (DOL) is soliciting comments concerning the proposed collection of information for the Evaluation of the Employment and Training Administration/Office of Disability Employment Policy Disability Employment Initiative (DEI).

A copy of the proposed information collection request (ICR) can be obtained by contacting the office listed below in the ADDRESSES section of this notice.

DATES: Submit comments on or before August 19, 2011.

ADDRESSES: Submit written comments to the Office of Disability Employment Policy, Room S-1303, 200 Constitution Avenue, NW., Washington, DC 20210, Attention: Richard Horne, Director, Division of Policy Planning and Research.

Telephone number: (202) 693-7880.

Fax: (202) 693-7888.

E-mail: horne.richard@dol.gov.

Instructions: Please submit one copy of your comments by only one method. All submissions received must include the agency name and collection name identified above for this information collection. Because we continue to experience delays in receiving mail in the Washington, DC area, commenters are strongly encouraged to transmit their comments electronically via e-mail or to submit them by mail early. Comments, including any personal information provided, become a matter of public record. They will be summarized and/or included in the request for Office of Management and Budget approval of the information collection request.

FOR FURTHER INFORMATION CONTACT: Richard Horne, Director, Division of Policy Planning & Research, Office of Disability Employment Policy, U.S. Department of Labor, Room S-1303, 200 Constitution Avenue, NW., Washington, DC 20210; telephone (202) 693-7880 (this is not a toll free number). Copies of this notice may be obtained in alternative formats (Large print, Braille, Audio Tape, or Disc), upon request by calling (202) 693-7880 (this is not a toll-free number). TTY/TTD callers may dial (202) 693-7881 to obtain information or to request materials in alternative formats.

SUPPLEMENTARY INFORMATION:

I. Background

The Combined Appropriation Act of 2010, Division D of Public Law 111-117, includes $12 million in funds to DOL's Employment and Training Administration (ETA) and $12 million to ODEP to develop and implement a plan for improving effective and meaningful participation of persons with disabilities in the workforce and to evaluate the impact of the DEI. At present, the employment rate of people with disabilities is just 21 percent, compared with a rate of 70 percent among individuals without disabilities (DOL, Bureau of Labor Statistics, 2010). The DEI is designed to reduce this discrepancy by helping states: (1) Improve educational, training, and employment opportunities and outcomes of youth and adults with disabilities who are unemployed, underemployed, and/or receiving Social Security disability benefits; and (2) help individuals with disabilities find a path to the middle class through exemplary and model service delivery by the public workforce system (DOL, 2010).

In September 2010, Alaska, Arkansas, Delaware, Illinois, Kansas, Maine, New Jersey, New York and Virginia received three-year grants to implement the DEI in randomly assigned local workforce investment areas (LWIAs). The DEI grantees are required to implement five program requirements: (1) Hire a State DEI Project Lead; (2) hire a Disability Resource Coordinator (DRC) at each DEI site; (3) maintain One-Stop Career Center accessibility; (4) have each DEI site participate in the Ticket to Work program as an Employment Network; and (5) plan for sustaining DEI activities after the three-year grant period. In addition, grantees are required to incorporate at least two of the following seven program design strategies: (1) Integrated resource teams; (2) integrated resources; (3) customized employment; (4) self-employment; (5) implementation of the Guideposts for Success; (6) asset development strategies; and (7) partnerships and collaboration.

The purpose of the DEI evaluation is to understand and assess DEI program start-up and implementation, DEI program efforts to create system change in the workforce development system, and measures of DEI program impact and customer outcomes. DEI evaluation findings will be shared with ODEP, ETA, and other entities within DOL; DEI grantees; and other organizations involved in disability employment policy and practice to help them: (1) Make “mid-stream” adjustments during the grant period; (2) replicate successful program strategies and approaches used by DEI grantees; and (3) support improvements in the workforce development system nationwide. DEI evaluation findings will also be used to improve program activities and services to customers and support DEI grantees and their partners in the development of systems that increase access and availability to employment and employment preparation services for customers with disabilities, including Ticket to Work participants and other Social Security disability beneficiaries.

Data collection for this evaluation includes two types of data collection activities: (1) Annual site visits to the nine DEI grantees and (2) implementation of the DEI data system. For the Annual Site Visits, the DEI Evaluation Team will make two visits to each of the nine DEI grantees, one in 2012 and one in 2013. Interviews will be conducted with the DEI state lead, Disability Resource Coordinators, Workforce Investment Board (WIB) directors, One-Stop Career Center managers, One-Stop staff members, and agency partners and employers. Additionally, eight to ten One-Stop customers will be asked to participate in a customer focus group. The domains to be investigated include: The current status at baseline and change in grantees' workforce development system at follow-up; grantee customer characteristics; implementation of the five grant requirements; implementation of the grantee's selected program design strategies; program implementation challenges; and systems change. The second data collection activity, the DEI data system, is designed to collect information not contained in the Workforce Investment Act Standardized Record Data (WIASRD) and Wagner-Peyser administrative data systems, including additional demographic, outcome and service utilization data. Data for the DEI data system will be collected according to each grantee's preferred mode of data collection and reporting, and will be integrated with their usual data collection processes. Uploading of DEI data system data from DEI grantees will occur on a quarterly basis.

II. Review Focus

DOL is interested in comments that:

* Evaluate whether the proposed collection of information is necessary, and whether the information will have practical utility;

* evaluate the accuracy of the agency's estimate of the burden of the proposed collection of information, including the validity of the methodology and assumptions used;

* enhance the quality, utility, and clarity of the information to be collected; and

* minimize the burden of the collection of information on those who are to respond.

III. Current Actions

Agency: Department of Labor, Office of Disability Employment Policy.

Title: Evaluation of the Employment and Training Administration/Office of Disability Employment Policy Disability Employment Initiative (DEI)

Annual Site Visits

Total Respondents: Approximately 542. As shown in the table below, the number of respondents per grantee depends on the number of LWIAs participating in the DEI evaluation. Each DEI State Lead, DRC and WIB Director will be interviewed in each state and two One-Stop and partners/employers will be interviewed per Local Workforce Investment Board (LWIB). In states that have one LWIB, one customer focus group will be conducted; in the states with more than one LWIB, three focus groups will be conducted.

Frequency: The DEI Evaluation Team will make two visits to each of the nine DEI grantees, one in 2012 and one in 2013.

Average Time per Response: Partners and employers from small entities will participate in interviews that are 45 minutes in duration. All other interviews will be 60 minutes in duration.

Estimated Total Burden Hours: The cumulative hours of burden due to the site visits to DEI grantees for the entire project period is 1,228 for two annual rounds of site visits.

Estimated Annual Hours of Burden Due to Site Visits
State | DEI state lead: # of resp. | DEI state lead: Hrs/resp. | DRC: # of resp. | DRC: Hrs/resp. | One-stop staff: # of resp. | One-stop staff: Hrs/resp. | Partners & employers*: # of resp. | Partners & employers*: Hrs/resp.
Alaska | 1 | 2 | 5 | 2 | 2 | 0.5 | 2 | 0.75
Arkansas | 1 | 2 | 4 | 2 | 16 | 0.5 | 16 | 0.75
Delaware | 1 | 2 | 4 | 2 | 2 | 0.5 | 2 | 0.75
Illinois | 1 | 2 | 4 | 2 | 8 | 0.5 | 8 | 0.75
Kansas | 1 | 2 | 2 | 2 | 8 | 0.5 | 8 | 0.75
Maine | 1 | 2 | 4 | 2 | 6 | 0.5 | 6 | 0.75
New Jersey | 1 | 2 | 6 | 2 | 16 | 0.5 | 16 | 0.75
New York | 1 | 2 | 20 | 2 | 40 | 0.5 | 40 | 0.75
Virginia | 1 | 2 | 8 | 2 | 18 | 0.5 | 18 | 0.75
Total | 9 | 18 | 57 | 18 | 116 | 4.5 | 116 | 6.75

Estimated Annual Hours of Burden Due to Site Visits (Continued)
State | WIB director: # of resp. | WIB director: Hrs/resp. | Focus groups: # of resp. | Focus groups: Hrs/resp. | Total hours per year | Cumulative total over 2 years
Alaska | 1 | 1 | 9 | 1.5 | 29 | 58
Arkansas | 8 | 1 | 24 | 1.5 | 74 | 148
Delaware | 1 | 1 | 9 | 1.5 | 27 | 54
Illinois | 4 | 1 | 24 | 1.5 | 60 | 120
Kansas | 4 | 1 | 24 | 1.5 | 56 | 112
Maine | 3 | 1 | 24 | 1.5 | 56.5 | 113
New Jersey | 8 | 1 | 24 | 1.5 | 78 | 156
New York | 20 | 1 | 24 | 1.5 | 148 | 296
Virginia | 9 | 1 | 24 | 1.5 | 85.5 | 171
Total | 58 | 9 | 186 | 13.5 | 614 | 1,228

DEI Data System

Total Respondents: To determine the number of customers with disabilities from whom data will be collected via the DEI data system, the numbers of FY 2009 WIASRD and Wagner-Peyser services users were obtained from the DEI grant applications for the LWIAs selected to participate in the DEI evaluation. These numbers were then reduced by 11 percent (based on information reported in Livermore & Coleman 2010) to obtain an approximate unduplicated count of customers with disabilities, for a total of 43,756 respondents.

Frequency: Because the DEI evaluation includes baseline and follow-up data collection, burden on customers and staff will occur twice.

Average Time per Response: For each data collection point, customers with disabilities and staff will spend on average 4.8 minutes completing the DEI data collection form per point of contact (baseline or follow-up), as determined by a pilot test with 9 One-Stop customers.

Estimated Total Burden Hours: The burden estimate for the DEI data system for the entire study period is 12,352 hours.

DEI Data System Burden Estimates
State | # of customers with disabilities (CWD) in FY 2009 | 2 CWD contact points | 2 staff contact points | Time to complete the DEI data system at intake & outcome | Total hours burden per year | Total hours burden per study period
Alaska | 5,471 | 2 | 2 | 4.82 | 193 | 387
Arkansas | 893 | 2 | 2 | 4.82 | 32 | 63
Delaware | 317 | 2 | 2 | 4.82 | 11 | 22
Illinois | 3,465 | 2 | 2 | 4.82 | 122 | 245
Kansas | 997 | 2 | 2 | 4.82 | 35 | 70
Maine | 3,098 | 2 | 2 | 4.82 | 110 | 219
New Jersey | 3,950 | 2 | 2 | 4.82 | 140 | 279
New York | 17,835 | 2 | 2 | 4.82 | 630 | 1,261
Virginia | 7,730 | 2 | 2 | 4.82 | 273 | 546
Total | 45,756 |  |  |  | 1,547 | 3,093
* The 11% assumption is based on a comparison of unduplicated and total counts of Social Security disability program beneficiaries who used WIA and Wagner Peyser services in 2005 and 2006 in three states, as shown in Livermore, Gina, and Silvie Colman. “Use of One-Stops by Social Security Disability Beneficiaries in Four States Implementing Disability Program Navigator Initiatives.” Washington, DC: Mathematica Policy Research, May 2010.

Frequency: Twice.

Total Responses: 43,756 respondents.

Average Time per Response: 4.8 minutes.

Estimated Total Burden Hours: 12,352 hours.

Total Burden Cost: $0.

Note that, due to rounding, the numbers for the totals may differ from the sum of the component numbers.

Comments submitted in response to this Notice will be summarized and/or included in the request for Office of Management and Budget approval of the ICR; they will also become a matter of public record.

Signed: at Washington, DC, this 26th day of May, 2011.
Kathleen Martinez,
Assistant Secretary, Office of Disability Employment Policy.

[FR Doc. 2011-15297 Filed 6-17-11; 8:45 am]

BILLING CODE 4510-27-P